DEPARTMENT OF COMMERCE

International Trade Administration

[C-570-098, C-533-886]

Polyester Textured Yarn From India and the People's Republic of China: Postponement of Preliminary Determinations in the Countervailing Duty Investigations

AGENCY: Enforcement and Compliance, International Trade Administration, Department of Commerce.

DATES: Applicable February 1, 2019.

FOR FURTHER INFORMATION CONTACT: Joseph Dowling at (202) 482-1646 (China); Janae Martin at (202) 482-0238 (India), AD/CVD Operations, Enforcement and Compliance, International Trade Administration, U.S. Department of Commerce, 1401 Constitution Avenue NW, Washington, DC 20230.

SUPPLEMENTARY INFORMATION:

Background

On November 7, 2018, the Department of Commerce (Commerce) initiated countervailing duty (CVD) investigations of imports of polyester textured yarn from India and the People's Republic of China (China).¹ Currently, the preliminary determinations are due no later than January 11, 2018.

¹ See Polyester Textured Yarm from India and the People's Republic of China: Initiation of Countervailing Duty Investigations, 83 FR 58232 (November 19, 2018).

Postponement of Preliminary Determinations

Section 703(b)(1) of the Tariff Act of 1930, as amended (the Act), requires Commerce to issue the preliminary determination in a CVD investigation within 65 days after the date on which Commerce initiated the investigation. However, section 703(c)(1) of the Act permits Commerce to postpone the preliminary determination until no later than 130 days after the date on which Commerce initiated the investigation if: (A) the petitioners ² makes a timely request for a postponement; or (B) Commerce concludes that the parties concerned are cooperating, that the investigation is extraordinarily complicated, and that additional time is necessary to make a preliminary determination. Under 19 CFR 351.205(e), the petitioners must submit a request for postponement 25 days or more before the scheduled date of the preliminary determination and must state the reasons for the request. Commerce will grant the request unless it finds compelling reasons to deny the request.

² The petitioners are Unifi Manufacturing, Inc. and Nan Ya Plastics Corporation, America.

On December 10, 2018, the petitioners submitted timely requests that Commerce postpone the preliminary CVD determinations.³ The petitioners stated that they request postponement of the preliminary determinations because Commerce requires additional time to select mandatory respondents and collect and analyze the questionnaire responses.⁴ Furthermore, additional time will permit the petitioners to review the data submitted by the mandatory respondents selected, as well as the Governments of China and India, and for Commerce to issue supplemental questionnaires and gather additional or clarifying information, as necessary.⁵

³ See the petitioners' letter, “Countervailing Duty Investigation of Polyester Textured Yarn from China—Petitioners' Request to Postpone Preliminary Determination,” dated December 10, 2018 (China Postponement Letter); and the petitioners' letter, “Countervailing Duty Investigation of Polyester Textured Yarn from India—Petitioners' Request to Postpone Preliminary Determination,” dated December 10, 2018 (India Postponement Letter).

⁴ See China Postponement Letter at 2; India Postponement Letter at 2.

⁵ Id.

In accordance with 19 CFR 351.205(e), the petitioners have stated the reasons for requesting a postponement of the preliminary determinations, and Commerce finds no compelling reason to deny the request. Therefore, in accordance with section 703(c)(1)(A) of the Act, Commerce is postponing the deadline for the preliminary determinations to no later than 130 days after the date on which these investigations were initiated, i.e., to March 18, 2019.⁶ Pursuant to section 705(a)(1) of the Act and 19 CFR 351.210(b)(1), the deadline for the final determinations of these investigations will continue to be 75 days after the date of the preliminary determinations.

⁶ Postponing the preliminary determinations to 130 days after the date of initiation of these investigations would place the deadline on Sunday, March 17, 2019. Commerce's practice dictates that where a deadline falls on a weekend or federal holiday, the appropriate deadline is the next business day. See Notice of Clarification: Application of “Next Business Day” Rule for Administrative Determination Deadlines Pursuant to the Tariff Act of 1930, As Amended, 70 FR 24533 (May 10, 2005).

This notice is issued and published pursuant to section 703(c)(2) of the Act and 19 CFR 351.205(f)(1).

Dated: December 21, 2018.
P. Lee Smith,
Deputy Assistant Secretary for Policy and Negotiations.

[FR Doc. 2019-00751 Filed 1-31-19; 8:45 am]

BILLING CODE 3510-DS-P